DEPARTMENT OF ENERGY

Federal Energy Regulatory Commission

[Project No. 2490-031]

Green Mountain Power Corporation; Notice Soliciting Scoping Comments

Take notice that the following hydroelectric application has been filed with the Commission and is available for public inspection.

a. Type of Application: Subsequent Minor.

b. Project No.: P-2490-031.

c. Date Filed: August 30, 2022.

d. Applicant: Green Mountain Power Corporation (GMP).

e. Name of Project: Taftsville Hydroelectric Project.

f. Location: On the Ottauquechee River in the Village of Taftsville, Windsor County, Vermont.

g. Filed Pursuant to: Federal Power Act 16 U.S.C. 791(a)-825(r).

h. Applicant Contact: John Greenan, Green Mountain Power Corporation, 2152 Post Road, Rutland, VT 05701; (802) 770-2195; or John.Greenan@greenmountainpower.com.

i. FERC Contact: Monte TerHaar at (202) 502-6035; or monte.terhaar@ferc.gov.

j. Deadline for filing scoping comments: June 5, 2023.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the following on the first page: Taftsville Hydroelectric Project (P-2490-031).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The application is not ready for environmental analysis at this time.

l. Project Description: (1) an existing 220-foot-long by 16-foot-high concrete gravity dam; (2) a 194-foot-long spillway section with a crest elevation of 637.12 feet National Geodetic Vertical Datum of 1929 (NGVD 29), topped with 18-inch wooden flashboards; (3) an existing 4,600-foot-long, 20.5-acre reservoir at normal water surface elevation 638.6 feet NGVD 29; (4) a powerhouse containing one 0.5-megawatt vertical Kaplan generating unit, with a minimum hydraulic capacity of 95 cubic feet per second (cfs) and maximum hydraulic capacity of 370 cfs; (5) a 200-foot-long tailrace section; (6) a 40-foot-long transmission line connecting the powerhouse to the Distribution Substation; (7) the Distribution Substation and Transmission West Substation; and (8) appurtenant facilities. Approximately 290 feet of the Ottauquechee River, between the dam and tailrace channel, are bypassed during normal operations. The project generates 1,038 megawatt-hours annually.

m. GMP proposes no modifications to the existing project facilities. GMP proposes to continue to operate the project in run-of-river mode, provide a 15 cfs release to the bypassed reach via spillage over the crest of the spillway, seasonally install wooden flashboards, and maintain recreation facilities, as it has under the current license, with modifications to: (1) Use no more than 10% of inflow to refill the impoundment after maintenance drawdowns; (2) Consult with resource agencies prior to conducting maintenance and unplanned drawdowns and repair work; (3) Restrict the removal of trees greater than or equal to 3 inches in diameter at breast height in the project boundary to the period of November 1 through March 31 for protection of the northern-long-eared bat; and (4) Update the historic properties management plan to address and mitigate project effects on historic properties.

n. Copies of the application can be viewed on the Commission's website at https://www.ferc.gov using the “eLibrary” link. Enter the project's docket number excluding the last three digits in the docket number field to access the document. For assistance, contact FERC Online Support at FERCOnlineSupport@ferc.gov.

You may also register at https://ferconline.ferc.gov/FERCOnline.aspx to be notified via email of new filings and issuances related to this or other pending projects. For assistance, please contact FERC Online Support at FERCOnlineSupport@ferc.gov.

o. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued May 5, 2023.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: May 5, 2023.
Kimberly D. Bose,
Secretary.

[FR Doc. 2023-10065 Filed 5-10-23; 8:45 am]

BILLING CODE 6717-01-P